DEPARTMENT OF DEFENSE

Office of the Secretary

[Transmittal No. 22-12]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 22-12 with attached Policy Justification and Sensitivity of Technology.

Dated: June 24, 2024.
Aaron T. Siegel,
Alternate OSD Federal Register Liaison Officer, Department of Defense.

BILLING CODE 6001-FR-P

BILLING CODE 6001-FR-C

Transmittal No. 22-12

Notice of Proposed Issuance of Letter of Offer Pursuant to Section 36(b)(1) of the Arms Export Control Act, as amended

(i) Prospective Purchaser: Government of Morocco

(ii) Total Estimated Value:

Major Defense Equipment * | $ 1.9 million
Other | $139.2 million
TOTAL | $141.1 million

Funding Source: National Funds

(iii) Description and Quantity or Quantities of Articles or Services under Consideration for Purchase:

Major Defense Equipment (MDE):

Six (6) Multifunctional Information Distribution System Joint Tactical Radio Systems (MIDS-JTRS)

Non-MDE:

Also included are KY-100M Narrowband/Wideband Terminals; KIV-78 and KIV-77 Cryptographic Appliques; AN/PYQ-10 Simple Key Loader (SKL); additional secure communications, cryptographic devices, and precision navigation equipment; unclassified and classified software, software support and support equipment; spare and repair parts; support and test equipment; publications and technical documentation; personnel training and training equipment; U.S. Government and contractor engineering; technical and logistics support services; and other related elements of logistical and program support.

(iv) Military Department: Air Force (MO-D-DAC)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: August 25, 2022

* As defined in Section 47(6) of the Arms Export Control Act.

POLICY JUSTIFICATION

Morocco—Ground Command and Control

The Government of Morocco has requested to buy six (6) Multifunctional Information Distribution System Joint Tactical Radio Systems (MIDS-JTRS). Also included are: KY-100M Narrowband/Wideband Terminals; KIV-78 and KIV-77 Cryptographic Appliques; AN/PYQ-10 Simple Key Loader (SKL); additional secure communications, cryptographic devices, and precision navigation equipment; unclassified and classified software, software support and support equipment; spare and repair parts; support and test equipment; publications and technical documentation; personnel training and training equipment; U.S. Government and contractor engineering; technical and logistics support services; and other related elements of logistical and program support. The estimated total cost is $141.1 million.

This proposed sale will support the foreign policy and national security of the United States by helping to improve the security of a Major Non-NATO Ally that continues to be an important force for political stability and economic progress in North Africa.

The proposed sale will improve Morocco's capability to meet current and future threats by providing timely Intelligence, Surveillance, and Reconnaissance (ISR) and target acquisition for its security and defense. The capability is a deterrent to regional threats and to strengthen its self-defense. Morocco has demonstrated a commitment to modernizing its military and will have no difficulty absorbing these articles into its armed forces.

The proposed sale of this equipment and support will not alter the basic military balance in the region.

The principal contractors will be General Atomic Aeronautical Systems Inc., San Diego, CA; Lockheed Martin Inc., Bethesda, MD; Raytheon Inc., Waltham, MA; and Leonardo SpA, Rome, Italy. The purchaser typically requests offsets. Any offset agreement will be defined in negotiations between the purchaser and the contractor.

Implementation of this proposed sale will not require the assignment of any additional U.S. Government or contractor representatives to Morocco.

There will be no adverse impact on U.S. defense readiness as a result of this proposed sale.

Transmittal No. 22-12

Notice of Proposed Issuance of Letter of Offer Pursuant to Section 36(b)(1) of the Arms Export Control Act

Annex

Item No. vii

(vii) Sensitivity of Technology:

1. Multifunctional Information Distribution System—Joint Tactical Radio System (MIDS—JTRS) is an advanced Link-16 command, control, communications, and intelligence (C3I) system incorporating high capacity, jam-resistant, digital communication links for exchange of near real-time tactical information, including both data and voice, among air, ground, and sea elements.

2. The KY-100M is a lightweight terminal for secure voice and data communications. The KY-100M provides wideband/narrowband half-duplex communication. Operating in tactical ground, marine and airborne applications, the KY-100M enables secure communication with a broad range of radio and satellite equipment.

3. The KIV-78 and KIV-77 are crypto appliques for Mode 5 Identification Friend or Foe equipment. It can be loaded with Mode 5 classified elements.

4. The AN/APQ-10C Simple Key Loader is a handheld fill device for securely receiving, storing, and transferring data between cryptographic and communications equipment.

5. The highest level of classification of defense articles, components, and services included in this potential sale is SECRET.

6. If a technologically advanced adversary were to obtain knowledge of the specific hardware and software elements, the information could be used to develop countermeasures that might reduce weapon system effectiveness or be used in the development of a system with similar or advanced capabilities.

7. A determination has been made that Morocco can provide substantially the same degree of protection for the sensitive technology being released as the U.S. Government. This sale is necessary in furtherance of the U.S. foreign policy and national security objectives outlined in the Policy Justification.

8. All defense articles and services listed in this transmittal have been authorized for release and export to the Government of Morocco.

[FR Doc. 2024-14187 Filed 6-27-24; 8:45 am]

BILLING CODE 6001-FR-P